DEPARTMENT OF LABOR

Employment and Training Administration

[TA-W-74,700]

AT&T; Reynoldsburg, OH; Notice of Affirmative Determination Regarding Application for Reconsideration

By application dated January 6, 2011, by three petitioners requested administrative reconsideration of the negative determination regarding workers' eligibility to apply for Trade Adjustment Assistance (TAA) applicable to workers and former workers of AT&T, Reynoldsburg, Ohio (subject firm). The determination was issued on December 9, 2010. The Department's Notice of Determination was published in the Federal Register on January 3, 2011 (76 FR 182). The workers supply customer care call services.

The negative determination was based on the findings that the worker separations are not attributable to increased imports or a shift of services to a foreign country. Rather, the investigation established that the worker separations are attributable to the workers' firm shifting customer care call services to other facilities within the United States. The investigation also revealed the firm is not a supplier or downstream producer to a firm with a TAA-certified worker group.

In the request for reconsideration, the petitioners alleged that the subject firm has shifted services to a foreign country.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 21st day of January, 2011.
Del Min Amy Chen,
Certifying Officer, Office of Trade Adjustment Assistance.

[FR Doc. 2011-2242 Filed 2-1-11; 8:45 am]

BILLING CODE 4510-FN-P